DEPARTMENT OF ENERGY

Federal Energy Regulatory Commission

[Docket Nos. CP03-296-000 and CP03-298-000]

NGO Transmission, Inc.; Notice of Application

May 22, 2003.

Take notice that on May 13, 2003, NGO Transmission, Inc. (NGO Transmission), 1500 Granville Road, Newark, Ohio 43058-4970, filed with the Federal Energy Regulatory Commission (Commission) in Docket No. CP03-296-000, an abbreviated application pursuant to section 7(c) of the Natural Gas Act and part 157 of the Commission's regulations for a certificate of public convenience and necessity authorizing the acquisition, ownership, and operation of certain existing natural gas pipeline and storage facilities located in central Ohio, as more fully described in the application. NGO Transmission also requests in Docket No. CP03-298-000, that the Commission issue a blanket certificate of public convenience and necessity pursuant to section 7(c) of the Natural Gas Act and under part 157, Subpart F of the Commission's regulations. NGO Transmission further requests that the Commission act on its application by October 1, 2003, so that the reorganization can be completed by the start of the 2003/2004 winter heating season.

This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. Any questions regarding this application should be directed to Ned Hengerer or Douglas John, Counsel for NGO Transmission, Inc., John & Hengerer, 1200 17th Street, NW., Suite 600, Washington, DC 20036-3013, electronic mail: ehengerer@jhenergy.com, phone: (202) 429-8811, fax: 202-429-8805.

Specifically, NGO Transmission, a single member cooperative, requests authorization to acquire, own, and operate approximately 171 miles of existing small and medium diameter natural gas pipeline and three connected storage facilities with an aggregate peak day transportation throughput capacity of 76,773 MMBtu/d and total storage capacity of 6,047,130 MMBtu and 43,260 MMBtu/d peak withdrawal rate. NGO states that no new facilities are to be constructed. The existing facilities are currently owned by an affiliated local distribution company, National Gas and Oil Cooperative (NGO), and operated as Hinshaw facilities exempt from the Commission's jurisdiction under section 1(c) of the Natural Gas Act. Upon receipt of the requested certificate, NGO states that it will transfer the transportation and storage facilities to NGO Transmission through an internal business reorganization and NGO Transmission will commence stand-alone interstate transportation and storage service. NGO asserts that it will retain and continue to operate its local distribution facilities. NGO states that this internal reorganization is intended to enable NGO to separately account for and recover upstream transportation and storage costs through a gas cost rate (GCR) mechanism that is similar to those used by other Ohio local distribution companies, including those with whom NGO competes.

NGO Transmission states that the internal reorganization will neither degrade existing services nor alter the historical function of the facilities that are to be acquired, namely, the transportation and/or storage of natural gas on behalf of NGO and two other affiliated entities that produce and/or market natural gas in the area. NGO states that no other shippers receive service. To preserve the unique and strictly local nature of the system's existing operations, NGO Transmission requests that the Commission waive the regulatory requirements stated in part 284 to operate on an open access basis, as well as the Standards of Conduct imposed on pipelines with affiliated marketing entities under part 161. If the Commission determines that an unconditional waiver of part 284 is inappropriate, NGO Transmission is willing to accept a conditional waiver under which it would commit to filing a part 284 open access tariff upon receiving a bona fide request for service from an unaffiliated entity.

NGO Transmission proposes to replicate NGO's existing use of the facilities by providing, on a contractual part 157 basis, bundled firm transmission and storage no-notice service with a monthly cost-based reservation rate of $4.03 per MMBtu. NGO Transmission also proposes to provide to affiliates Producers Gas Sales, Inc. and NGO Development Corporation contractual interruptible transportation service at a 100% load factor rate of 6.6 per MMBtu transported and contractual interruptible storage service at a 100% load factor rate of 7 per MMBtu stored per month.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the Natural Gas Act (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have their comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the Commission's review of this project should submit an original and two copies of their comments to the Secretary of the Commission. Names of commenters will be placed on the Commission's environmental mailing list, will receive copies of any environmental documents, and will be notified of meetings associated with the Commission's environmental review process, if any. Commenters will not be required to serve copies of filed documents on all other parties.

However, the non-party commenters will not receive copies of all documents filed by other parties or issued by the Commission (except for the mailing of environmental documents issued by the Commission, if any) and will not have the right to seek court review of the Commission's final order. Thus, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Due Date: June 13, 2003.

Magalie R. Salas,
Secretary.

[FR Doc. 03-13481 Filed 5-29-03; 8:45 am]

BILLING CODE 6717-01-P